DEPARTMENT OF ENERGY

Federal Energy Regulatory Commission

Combined Notice of Filings

Take notice that the Commission has received the following Natural Gas Pipeline Rate and Refund Report filings:

Docket Numbers: RP20-526-000.

Applicants: Bear Creek Storage Company, L.L.C.

Description: Compliance filing Annual Report on Operational Transactions 2020.

Filed Date: 2/19/20.

Accession Number: 20200219-5016.

Comments Due: 5 p.m. ET 3/2/20.

Docket Numbers: RP20-527-000.

Applicants: Columbia Gas Transmission, LLC.

Description: § 4(d) Rate Filing: THQ Negotiated Rate Filing to be effective 2/19/2020.

Filed Date: 2/19/20.

Accession Number: 20200219-5047.

Comments Due: 5 p.m. ET 3/2/20.

Docket Numbers: RP20-528-000.

Applicants: Empire Pipeline, Inc.

Description: § 4(d) Rate Filing: Fuel Tracker GT&C 23.6 (Empire) to be effective 4/1/2020.

Filed Date: 2/19/20.

Accession Number: 20200219-5051.

Comments Due: 5 p.m. ET 3/2/20.

Docket Numbers: RP20-529-000.

Applicants: Enable Mississippi River Transmission, LLC.

Description: § 4(d) Rate Filing: Negotiated Rate Filing—City of Chester RP18-923 & RP20-131 Settlement to be effective 1/1/2019.

Filed Date: 2/19/20.

Accession Number: 20200219-5058.

Comments Due: 5 p.m. ET 3/2/20.

Docket Numbers: RP20-530-000.

Applicants: National Fuel Gas Supply Corporation.

Description: § 4(d) Rate Filing: Fuel Tracker GT&C 41 (Supply) to be effective 4/1/2020.

Filed Date: 2/19/20.

Accession Number: 20200219-5066.

Comments Due: 5 p.m. ET 3/2/20.

Docket Numbers: RP20-531-000.

Applicants: Northwest Pipeline LLC.

Description: § 4(d) Rate Filing: Renewable Natural Gas Filing to be effective 4/1/2020.

Filed Date: 2/19/20.

Accession Number: 20200219-5106.

Comments Due: 5 p.m. ET 3/2/20.

Docket Numbers: RP20-532-000.

Applicants: Southern Star Central Gas Pipeline, Inc.

Description: § 4(d) Rate Filing: Fuel Filing—Eff. April 1, 2020 to be effective 4/1/2020.

Filed Date: 2/19/20.

Accession Number: 20200219-5124.

Comments Due: 5 p.m. ET 3/2/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 20, 2020.
Nathaniel J. Davis, Sr.,
Deputy Secretary.

[FR Doc. 2020-03925 Filed 2-26-20; 8:45 am]

BILLING CODE 6717-01-P